NUCLEAR REGULATORY COMMISSION

[Docket No. 50-443-LA-2]

In the Matter of NEXTERA Energy Seabrook, LLC (Seabrook Station, Unit 1); Notice of Appointment of Adjudicatory Employees

Pursuant to 10 CFR 2.4, notice is hereby given that Mr. Kamal Manoly, Senior Technical Advisor for Structural Mechanics, Office of Nuclear Reactor Regulation, and Dr. Jim Xu, Senior Technical Advisor for Structural and Seismic Analysis, Office of Nuclear Regulatory Research, have been appointed as Commission adjudicatory employees within the meaning of section 2.4, to advise the Commission regarding issues relating to the pending Emergency Petition by C-10 Research and Education Foundation for Exercise of Commission's Supervisory Authority to Reverse No Significant Hazards Determination and Immediately Suspend License Amendment and License Renewal Decisions filed on February 13, 2019. Mr. Manoly and Dr. Xu have not previously performed any investigative or litigating function in connection with this or any related proceeding. Until such time as a final decision is issued in this matter, interested persons outside the agency and agency employees performing investigative or litigating functions in this proceeding are required to observe the restrictions of 10 CFR 2.347 and 2.348 in their communications with Mr. Manoly and Dr. Xu.

It is so ordered.

For the Nuclear Regulatory Commission.
Dated at Rockville, Maryland, this 8th day of March 2019.
Denise L. McGovern,
Acting Secretary of the Commission.

[FR Doc. 2019-04694 Filed 3-13-19; 8:45 am]

BILLING CODE 7590-01-P